DEPARTMENT OF COMMERCE

International Trade Administration

[A-533-838]

Carbazole Violet Pigment 23 from India: Initiation of Antidumping Duty Changed-Circumstances Review

AGENCY: Import Administration, International Trade Administration, Department of Commerce

SUMMARY: Pursuant to section 751(b) of the Tariff Act of 1930, as amended, and 19 CFR 351.216 and 351.221(c)(3), the Department of Commerce is initiating a changed-circumstances review of the antidumping duty order on carbazole violet pigment 23 from India with respect to Meghmani Pigments.

EFFECTIVE DATE: March 9, 2010.

FOR FURTHER INFORMATION CONTACT: FOR FURTHER INFORMATION: Jerrold Freeman or Richard Rimlinger, AD/CVD Operations, Office 5, Import Administration, International Trade Administration, U.S. Department of Commerce, 14th Street and Constitution Avenue, NW, Washington, DC 20230; telephone: (202) 482-0180 or (202) 482-4477, respectively.

SUPPLEMENTARY INFORMATION:

Background

On December 29, 2004, we published in the Federal Register the antidumping duty order on carbazole violet pigment 23 (CVP 23) from India. See Notice of Amended Final Determination of Sales at Less Than Fair Value and Antidumping Duty Order: Carbazole Violet Pigment 23 From India, 69 FR 77988 (December 29, 2004). On December 1, 2009, we published in the Federal Register a notice of opportunity to request an administrative review of the antidumping duty order on CVP 23 from India. See Antidumping or Countervailing Duty Order, Finding, or Suspended Investigation; Opportunity To Request Administrative Review, 74 FR 62743 (December 1, 2009). On December 11, 2009, Alpanil Industries (Alpanil) informed the Department that, on April 9, 2009, Alpanil changed its name officially to Meghmani Pigments (Meghmani). On December 31, 2009, pursuant to section 751(a) of the Tariff Act of 1930, as amended (the Act), and 19 CFR 351.213(b), Meghmani requested an administrative review of the order. On January 29, 2010, in accordance with section 751(a) of the Act and 19 CFR 351.221(c)(1)(i), we published a notice of initiation of administrative review of the order. See Initiation of Antidumping and Countervailing Duty Administrative Reviews, Request for Revocation in Part, and Deferral of Initiation of Administrative Review, 75 FR 4770 (January 29, 2010). We did not receive a request from Alpanil, Meghmani, or any other interested parties for a changed-circumstances review with respect to the name change.

Scope of the Order

The merchandise subject to the order is CVP 23 identified as Color Index No. 51319 and Chemical Abstract No. 6358-30-1, with the chemical name of diindolo [3,2-b:3?,2?-m]¹ triphenodioxazine, 8,18-dichloro-5, 15-diethyl-5, 15-dihydro-, and molecular formula of C34H22Cl2N4O2. The subject merchandise includes the crude pigment in any form (e.g., dry powder, paste, wet cake) and finished pigment in the form of presscake and dry color. Pigment dispersions in any form (e.g., pigment dispersed in oleoresins, flammable solvents, water) are not included within the scope of the order. The merchandise subject to the order is classifiable under subheading 3204.17.90.40 of the Harmonized Tariff Schedule of the United States (HTSUS). Although the HTSUS subheading is provided for convenience and customs purposes, the written description of the scope of the order is dispositive.

¹ The bracketed section of the product description, [3,2-b:3?,2?-m], is not business-proprietary information. In this case, the brackets are simply part of the chemical nomenclature.

Initiation of Changed-Circumstances Review

Pursuant to section 751(b)(1) of the Act of and 19 CFR 351.216(d), the Department will conduct a changed-circumstances review upon receipt of information concerning, or a request from an interested party for a review of, an antidumping duty order which shows changed circumstances sufficient to warrant a review of the order. Based on the information Alpanil submitted on December 11, 2009, we find that we have received information which shows changed circumstances sufficient to warrant initiation of such a review. See 19 CFR 351.216(d). Therefore, in accordance with the above-referenced statute and regulation, the Department is initiating a changed-circumstances review.

Because we are currently conducting an administrative review of the order covering the period December 1, 2008, through November 30, 2009, we will conduct the changed-circumstances review in the context of the 2008-09 administrative review. In accordance with 19 CFR 351.221(b)(2), we will issue a questionnaire requesting factual information pertinent to the changed-circumstances review. We intend to issue the preliminary results of the changed-circumstances review when we issue the preliminary results of the 2008-09 administrative review and we intend to issue the final results of the changed-circumstances review when we issue the final results of the 2008-09 administrative review. During the course of this review, we will not change the cash-deposit requirements for the subject merchandise. The cash-deposit rate will be altered, if warranted, pursuant only to the final results of the changed-circumstances and/or administrative review.

This notice of initiation is in accordance with section 751(b)(1) of the Act and 19 CFR 351.221(b)(1).

Dated: March 3, 2010.
Edward C. Yang,
Acting Deputy Assistant Secretary for Antidumping and Countervailing Duty Operations.

[FR Doc. 2010-5017 Filed 3-8-10; 8:45 am]

BILLING CODE 3510-DS-S